DEPARTMENT OF STATE

[Public Notice: 12471]

Information Session on Columbia River Treaty Regime Modernization

ACTION: Notice of meeting.

SUMMARY: The Department of State will hold a virtual information session to provide an update on negotiations to modernize the Columbia River Treaty (CRT) regime, including information on the agreement in principle reached with Canada.

DATES: The session will be held on Monday August 5, 2024, 12:00-12:45 PT (3:00 p.m.—3:45 p.m. ET).

ADDRESSES: The session will be held virtually.

FOR FURTHER INFORMATION CONTACT: Office of Canadian Affairs, Department of State, ColumbiaRiverTreaty@state.gov, (202) 647-2170.

SUPPLEMENTARY INFORMATION: This information session is part of the Department's public engagement on the modernization of the CRT regime. (Per 22 U.S.C. 2651a and 2656.) The session is open to the public. To register, go to: https://statedept.zoomgov.com/webinar/register/WN_0x3JNqnYR52ZRn4C09HWcQ. The public is welcome to send questions or comments ahead of the information session to ColumbiaRiverTreaty@state.gov, which the Department will use to shape the presentation. Requests for reasonable accommodation should be made to the email listed above, on or before July 26, 2024. The Department will consider requests made after that date but may not be able to accommodate them. For more information about the meeting, please contact ColumbiaRiverTreaty@state.gov.

Authority: 22 U.S.C. 2651a, 2656; 5 U.S.C. 552.

Jennifer L. Savage,
Director, Office of Canadian Affairs, Department of State.

[FR Doc. 2024-16607 Filed 7-26-24; 8:45 am]

BILLING CODE 4710-29-P